MERIT SYSTEMS PROTECTION BOARD

Agency Information Collection Activities; Proposed Collection

AGENCY: Merit Systems Protection Board (MSPB).

ACTION: Notice.

SUMMARY: In compliance with the Paperwork Reduction Act (44 U.S.C. 3501), this document announces that an Information Collection Request (ICR) has been forwarded to the Office of Management and Budget (OMB) for review and approval. This is a request for a new collection. This ICR describes the nature of the information collection and its estimated burden and cost.

DATES: MSPB has submitted an ICR to OMB for review and approval according to the procedures prescribed in 5 CFR 1320.12. On November 27, 2006 (Federal Register, Volume 71, Number 227, pages 68639-68640), MSPB sought comments on this ICR pursuant to 5 CFR 1320.8(d). MSPB received no comments. Additional comments should be submitted on or before April 6 to OMB (Brenda Aguilar at baguilar@omb.eop.gov or fax at (202) 395-6974).

ADDRESSES: You may also submit comments to MSPB via any of the following methods:

E-mail: Please include “Employee Surveys” in the subject line of the message and send your message to anne.marrelli@mspb.gov.

Mail: Dr. Anne Marrelli, U.S. Merit Systems Protection Board, Suite 500, 1615 M Street, NW., Washington, DC 20419.

Fax: (202) 653-7211.

FOR FURTHER INFORMATION CONTACT: Anne Marrelli by phone on 202-653-6772, ext. 1341, by FAX on 202-653-7211, or by e-mail at anne.marrelli@mspb.gov. You may contact Dr. Marrelli via V/TDD at 1-800-877-8339.

SUPPLEMENTARY INFORMATION: Proposed Project: “Merit Principles Survey.”

As part of its mission, MSPB is responsible for conducting studies of the Federal civil service to ensure that all Federal government agencies follow merit systems practices and avoid prohibited personnel practices. To support this research agenda, MSPB is conducting a survey of Federal employees. To obtain insight into employees' current perspectives, MSPB requests approval to conduct surveys over the next three years.

The surveys will ask employees to share their perceptions of the implementation of the merit system in the workplace including topics such as the Merit Systems Principles, Prohibited Personnel Practices, job satisfaction, performance management, training and development, and leadership.

Burden Statement: The annual public reporting and recordkeeping burden for this collection of information is estimated to average 0.50 hours per respondent.

Respondents/Affected Entities: Participants are selected via stratified random sampling to facilitate a representative sample of Federal employees.

Estimated Number of Respondents per Survey: 50,000.

Frequency of Response: Once.

Estimated Total Annual Hour Burden: 25,000.

Dated: March 7, 2007.
Bentley M. Roberts, Jr.,
Clerk of the Board.

[FR Doc. E7-4465 Filed 3-12-07; 8:45 am]

BILLING CODE 7401-01-P